DEPARTMENT OF AGRICULTURE

Commodity Credit Corporation

American Indian Livestock Feed Program

AGENCY: Commodity Credit Corporation.

ACTION: Notice.

SUMMARY: The Executive Vice President, Commodity Credit Corporation (CCC), is announcing the termination of the American Indian Livestock Feed Program (AILFP). Funds were discontinued after September 30, 2001.

FOR FURTHER INFORMATION CONTACT: Steven Peterson, Chief, Noninsured Assitance Programs Branch (NAPB), Production, Emergencies and Compliance Division (PECD), Farm Service Agency (FSA), United States Department of Agriculture (USDA), STOP 0517, 1400 Independence Avenue, SW., Washington, DC 20250-0517, telephone (202) 720-5172; facsimile (202) 720-3646; e-mail StevePeterson@wdc.fsa.usda.gov.

EFFECTIVE DATE: This notice is effective on March 28, 2002.

SUPPLEMENTARY INFORMATION: The final rule for AILFP was published on June 8, 2000, with an initial budget of $12.5 million. This funding was nearly exhausted by January 2001. The Agriculture, Rural Development, Food and Drug Administration, and Related Agencies Appropriations Act of 2001 (2001 Act) provided additional funding of $11.9 million to continue the AILFP.

The 2001 Act authorized AILFP funding only for those AILFP contracts and requests to extend feeding periods for existing AILFP contracts that were approved by the Deputy Administrator for Farm Programs (DAFP) no later than September 30, 2001. As a result of this statutory provision, AILFP funding is not available for any AILFP contract or request to extend a feeding period for an existing AILFP contract not submitted and approved by DAFP by September 30, 2001. The program is terminated.

Signed at Washington, DC, on March 28, 2002.
James R. Little,
Executive Vice President, Commodity Credit Corportation.

[FR Doc. 02-7423 Filed 3-27-02; 8:45 am]

BILLING CODE 3410-05-P